DEPARTMENT OF HEALTH AND HUMAN SERVICES

Administration for Community Living

Administration on Intellectual and Developmental Disabilities, President's Committee for People With Intellectual Disabilities

AGENCY: Administration for Community Living, HHS.

ACTION: Notice.

DATES: Thursday, November 8, 2018 from 9:00 a.m. to 4:30 p.m.; and Friday, November 9, 2018 from 9:00 a.m. to 4:30 p.m. These meetings will be open to the general public.

ADDRESSES: These meetings will be held at the U.S. Access Board, located at 1331 F Street NW, Suite 800, Washington, DC 20004. Individuals who would like to participate via conference call may do so by dialing toll-free #: 1-888-949-2790, when prompted enter pass code: 1989852. Individuals whose full participation in the meeting will require special accommodations (e.g., sign language interpreting services, assistive listening devices, materials in alternative format such as large print or Braille) should notify Ms. Allison Cruz, Director, Office of Innovation, via email at Allison.Cruz@acl.hhs.gov, or via telephone at 202-795-7334, no later than Monday, October 19, 2018. The PCPID will attempt to accommodate requests made after this date, but cannot guarantee the ability to grant requests received after the deadline. All meeting sites are barrier free, consistent with the Americans with Disabilities Act (ADA) and the Federal Advisory Committee Act (FACA).

FOR FURTHER INFORMATION CONTACT: Ms. Allison Cruz, Director, Office of Innovation, 330 C Street SW, Switzer Building, Room 1114, Washington, DC 20201. Telephone: 202-795-7334. Fax: 202-795-7334. Email: Allison.Cruz@acl.hhs.gov

SUPPLEMENTARY INFORMATION: The PCPID acts in an advisory capacity to the President and the Secretary of Health and Human Services on a broad range of topics relating to programs, services and support for individuals with intellectual disabilities. The PCPID executive order stipulates that the Committee shall: (1) Provide such advice concerning intellectual disabilities as the President or the Secretary of Health and Human Services may request; and (2) provide advice to the President concerning the following for people with intellectual disabilities: (A) Expanding employment opportunities; (B) connecting people to services; (C) supporting families and caregivers; (D) strengthening the networks; and (E) protecting rights and preventing abuse.

Agenda: The Committee Members will discuss preparation of the PCPID 2019 Report to the President, including its content and format, and related data collection and analysis required to complete the writing of the Report.

Dated: September 24, 2018.
Mary Lazare,
Principal Deputy Administrator, Administration for Community Living.

[FR Doc. 2018-21319 Filed 9-28-18; 8:45 am]

BILLING CODE 4154-01-P